NATIONAL MEDIATION BOARD

29 CFR Parts 1206

[Docket No. C-7034]

RIN 3140-ZA01

Representation Procedures and Rulemaking Authority; Correction

AGENCY: National Mediation Board.

ACTION: Proposed rule; correction.

SUMMARY: This document corrects the text of a proposed rule published in the Federal Register on May 15, 2012. The proposed rule changes the National Mediation Board's (NMB or Board) existing rules for run-off elections to incorporate statutory language added to the Railway Labor Act (RLA) by the Federal Aviation Administration Modernization and Reform Act of 2012.

DATES: Comment date: The NMB will extend the comment period by accepting written comments that are received on or before August 6, 2012.

FOR FURTHER INFORMATION CONTACT: Mary Johnson, General Counsel, National Mediation Board, 202-692-5050, infoline@nmb.gov.

SUPPLEMENTARY INFORMATION: The National Mediation Board is correcting its proposed rule published in the Federal Register on May 15, 2012 at 77 FR 28536. This document makes a correction to clarify that Rule 1206.1 only applies in elections where 3 or more options receive valid votes.

Correction

In FR Doc. No. 2012-11770, on page 28537, in the right column, the text for § 1206.1 is correctly revised to read as follows:

§ 1206.1 Run-off elections.

(a) In an election among any craft or class where three or more options (including the option for no representation) receive valid votes, if no option receives a majority of the legal votes cast, or in the event of a tie vote, the Board shall authorize a run-off election.

(b) In the event a run-off election is authorized by the Board, the names of the two options which received the highest number of votes cast in the first election shall be placed on the run-off ballot, and no blank line on which voters may write in the name of any organization or individual will be provided on the run-off ballot.

(c) Employees who were eligible to vote at the conclusion of the first election shall be eligible to vote in the run-off election except:

(1) Those employees whose employment relationship has terminated; and

(2) Those employees who are no longer employed in the craft or class.

Dated: June 4, 2012.
Mary Johnson,
General Counsel, National Mediation Board.

[FR Doc. 2012-13849 Filed 6-6-12; 8:45 am]

BILLING CODE 7550-01-P